SMALL BUSINESS ADMINISTRATION

Data Collection Available for Public Comments

ACTION: 60-day notice and request for comments.

SUMMARY: The Small Business Administration (SBA) intends to request approval from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before December 9, 2014.

ADDRESSES: Send all comments to Erin Kelley, Director of Research & Policy, National Women's Business Council, Small Business Administration, 5th Floor, Washington, DC 20416.

FOR FURTHER INFORMATION CONTACT: Erin Kelley, Director of Research & Policy, National Women's Business Council, 202-205-6826, erin.kelley@nwbc.gov, or Curtis B. Rich, Management Analyst, 202-205-7030, curtis.rich@sba.gov.

SUPPLEMENTARY INFORMATION: The National Women's Business Council (NWBC) is a non-partisan federal advisory council that serves as an independent source of advice and counsel to the President, Congress, and the Small Business Administration on economic issues of importance to women business owners. Members of the Council are prominent women business owners and leaders of women' business organizations.

As part of NWBC's annual research into issues affecting women business owners, this year NWBC has chosen to examine how women participate in business incubation and acceleration programs. The goal is to understand the characteristics of incubators and accelerators that affect the business outcomes of female entrepreneurs. In addition, NWBC hopes to gain insights into the factors, both structural and individual, that affect women's participation in incubator and accelerator programs. To accomplish this, NWBC has acquired the services of a research firm to conduct a cross-sectional survey of female entrepreneurs and managers of business incubators and accelerators to better understand female participation in, utilization of, and outcomes derived from incubation and acceleration programs. The survey will consist of three separate questionnaires targeting female entrepreneurs who have not participated in business incubation or acceleration programs, female entrepreneurs who have participated in business incubation or acceleration programs, and managers representing business incubators and accelerators. Each questionnaire will take between 12 and 18 minutes to complete (see below for the estimated burden analysis of each questionnaire). The survey questions will explore a range of issues, including individual strategic choices and motivations; human capital; social capital; financial capital; experiences with incubators and accelerators; selection criteria of incubators and accelerators; institutional culture of incubators and accelerators; business models of incubators and accelerators; and performance outcomes.

The data from the survey will be rigorously analyzed and compared to relevant pre-existing quantitative data on female entrepreneurs and business incubators and accelerators to draw conclusions about current trends and generate leads for further NWBC research. In addition, the results will be interpreted in consultation with subject matter experts and relevant stakeholders to develop best practice policy recommendations to increase female participation in business incubator and accelerator programs and improve the quality of services those programs deliver for women. The recommendations will advise NWBC on how it can support economic growth by promoting and enhancing the contributions of business incubators and accelerators to women business owners.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Participation of Women in Business Incubators and Accelerators.

Description of Respondents: Female entrepreneurs who have not participated in business incubation or acceleration programs (non-participants); female entrepreneurs who have participated in business incubation or acceleration programs (participants); and managers representing business incubators and accelerators.

Form Number: N/A.

Total Estimated Annual Responses: 500 (200 from female entrepreneur non-participants; 150 from female entrepreneurs participants; and 150 from managers representing business incubators and accelerators).

Total Estimated Annual Hour Burden: 122.5 hours total.

| Female entrepreneurs: Non-participants | Female entrepreneurs: Participants | Managers representing incubators and accelerators | Total
Estimated survey hour burden | 12 minutes | 18 minutes | 15 minutes
Sample population hour burden estimate | 40 hours | 45 hours | 37.5 hours | 122.5 hours.

Curtis B. Rich,
Management Analyst.

[FR Doc. 2014-24282 Filed 10-9-14; 8:45 am]

BILLING CODE 8025-01-P